DEPARTMENT OF TRANSPORTATION

Federal Aviation Administration

Ninth Meeting: RTCA Special Committee (228) Minimum Operational Performance Standards for Unmanned Aircraft Systems

AGENCY: Federal Aviation Administration (FAA), U.S. Department of Transportation (DOT).

ACTION: Notice of Ninth RTCA Special Committee 228 Meeting.

SUMMARY: The FAA is issuing this notice to advise the public of the Ninth RTCA Special Committee 228 meeting.

DATES: The meeting will be held November 20th from 9:00 a.m.-1:00 p.m.

ADDRESSES: The meeting will be held at NASA Ames Center, Building 152, 200 Dailey Road, Moffett Field, CA 94035, Tel: (202) 330-0654.

FOR FURTHER INFORMATION CONTACT: The RTCA Secretariat, 1150 18th Street NW., Suite 910, Washington, DC 20036, or by telephone at (202) 833-9339, fax at (202) 833-9434, or Web site at http://www.rtca.org or Hal Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of RTCA Special Committee 228. The agenda will include the following:

Monday, November 16, 2015 (Specific Working Group Sessions Before the Plenary)

1. Afternoon—1:00-5:00 p.m. Working Group 1—DAA

2. All Day, Working Group 2—C2

Tuesday-Thursday, November 17-19, 2015 (Specific Working Group Sessions Before the Plenary)

1. All Day, Working Group 1—DAA

2. Separate Break-out rooms for subgroups as required

3. All Day, Working Group 2—C2

Friday, November 20, 2015

1. Welcome/Introductions/Administrative Remarks/SC-228 Participation Guidelines

a. Reading of the Public Announcement by the DFO

b. Reading of the RTCA Proprietary References Policy

2. Agenda Overview

3. Review/Approval of Minutes from Plenary #8 (RTCA Paper No. 132-15/SC228-21) held Friday, May 22, 2015 at RTCA

4. Review of RTCA SC-228 Steering Committee Activity

a. Phase Two SC-228 Terms of Reference Development Team

5. Report from EUROCAE WG-73

6. Report from WG-1, Detect and Avoid

7. Report from WG-2, Command and Control

8. Action Item Review

9. Other Business

10. Date, Place and Time of Next Meeting(s)

11. Adjourn Plenary

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on October 16, 2015.
Latasha Robinson,
Management & Program Analyst, Next Generation, Enterprise Support Services Division, Federal Aviation Administration.

[FR Doc. 2015-26861 Filed 10-21-15; 8:45 am]

BILLING CODE 4910-13-P